DEPARTMENT OF VETERANS AFFAIRS

Joint Biomedical Laboratory Research and Development and Clinical Science Research and Development Services Scientific Merit Review Board; Notice of Meetings

The Department of Veterans Affairs (VA) gives notice under the Federal Advisory Committee Act, 5 U.S.C. App. 2, that the panels of the Joint Biomedical Laboratory Research and Development and Clinical Science Research and Development Services Scientific Merit Review Board will meet from 8:00 a.m. to 5:00 p.m. on the dates indicated below:

Panel | Date(s) | Location
Neurobiology-C | November 18, 2013 | Sheraton Crystal City Hotel.
Surgery | November 21, 2013 | Sheraton Crystal City Hotel.
Hematology | November 22, 2013 | *VA Central Office.
Infectious Diseases-A | November 22, 2013 | *VA Central Office.
Neurobiology-A | November 22, 2013 | Sheraton Crystal City Hotel.
Cellular and Molecular Medicine | November 25, 2013 | *VA Central Office.
Neurobiology-F | November 26, 2013 | *VA Central Office (12:00 p.m. ET).
Immunology-A | December 3, 2013 | Hotel Palomar Washington, DC.
Infectious Diseases-B | December 3, 2013 | Hotel Palomar Washington, DC.
Nephrology | December 3, 2013 | Sheraton Crystal City Hotel.
Endocrinology-B | December 4, 2013 | The Ritz-Carlton, Pentagon City.
Epidemiology | December 4, 2013 | *VA Central Office.
Mental Health and Behavioral Sciences-A/B | December 4, 2013 | The Ritz-Carlton, Pentagon City.
Neurobiology-B | December 5, 2013 | Sheraton Crystal City Hotel.
Oncology-A | December 5-6, 2013 | Sheraton Crystal City Hotel.
Clinical Application of Genetics | December 5, 2013 | *VA Central Office.
Neurobiology-E | December 6, 2013 | Hotel Palomar Washington, DC.
Pulmonary Medicine | December 6, 2013 | Sheraton Crystal City Hotel.
Aging and Clinical Geriatrics | December 9, 2013 | *VA Central Office.
Endocrinology-A | December 9, 2013 | The Ritz-Carlton, Pentagon City.
Cardiovascular Studies | December 9, 2013 | Sheraton Crystal City Hotel.
Clinical Trials-A | December 11, 2013 | Hotel Palomar Washington, DC.
Clinical Trials-B | December 12, 2013 | *VA Central Office.
Gastroenterology | December 12, 2013 | The Ritz-Carlton, Pentagon City.
Neurobiology-D | December 12, 2013 | Hotel Palomar Washington, DC.
Eligibility | January 17, 2014 | The Ritz-Carlton, Pentagon City.
* Teleconference.

The addresses of the meeting sites are:

Hotel Palomar Washington DC, 2121 P Street, NW., Washington, DC

Sheraton Crystal City Hotel, 1800 Jefferson Davis Highway, Arlington, VA

The Ritz-Carlton, Pentagon City, 1250 South Hayes Street, Arlington, VA

VA Central Office, 131 M Street, NE., Washington, DC

The purpose of the Board is to provide advice on the scientific quality, budget, safety, and mission relevance of investigator-initiated research proposals submitted for VA merit review consideration. Proposals submitted for review by the Board involve a wide range of medical specialties within the general areas of biomedical, behavioral, and clinical science research.

The panel meetings will be open to the public for approximately one-half hour at the start of each meeting to discuss the general status of the program. The remaining portion of each panel meeting will be closed to the public for the review, discussion, and evaluation of initial and renewal research proposals. Because some of the meetings are being held in a government building, a photo I.D. must be presented at the Guard's Desk as a part of the clearance process. Therefore, you should allow an additional 15 minutes before the meeting begins.

The closed portion of each meeting involves discussion, examination, and reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with title 5 U.S.C., 552b(c)(6) and (9)(B).

Those who plan to attend the general session or would like to obtain a copy of the minutes from the panel meetings and rosters of the members of the panels should contact Alex Chiu, Ph.D., Manager, Merit Review Program (10P9B), Department of Veterans Affairs, 810 Vermont Avenue NW, Washington, DC 20420, at (202) 443-5672 or by email at alex.chiu@va.gov.

By Direction of the Secretary.
Dated: November 1, 2013.
William F. Russo,
Deputy Director, Regulation Policy and Management, Office of the General Counsel, Department of Veterans Affairs.

[FR Doc. 2013-26637 Filed 11-6-13; 8:45 am]

BILLING CODE 8320-01-P